DEPARTMENT OF COMMERCE

National Oceanic and Atmospheric Administration

[I.D. 042205A]

Magnuson-Stevens Act Provisions; General Provisions for Domestic Fisheries; Application for Exempted Fishing Permits

AGENCY: National Marine Fisheries Service (NMFS), National Oceanic and Atmospheric Administration (NOAA), Commerce.

ACTION: Notification of a proposal for an EFP to conduct experimental fishing; request for comments.

SUMMARY: The Assistant Regional Administrator for Sustainable Fisheries, Northeast Region, NMFS (Assistant Regional Administrator) has made a preliminary determination that the subject Exempted Fishing Permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to issue an EFP that would allow four vessels to conduct fishing operations that are otherwise restricted by the regulations governing the fisheries of the Northeastern United States. The EFP would allow for exemptions from the NE multispecies rolling closure area restrictions and the NE multispecies minimum mesh size requirements. The applicant proposes to conduct a study of an inclined separation panel, a bycatch reduction device, in order to examine the effectiveness of this type of gear at separating the catch of Atlantic cod, and other roundfish, from flatfish. The EFP would allow these exemptions for four commercial vessels for a combined total of 23 days at sea. All experimental work would be monitored by Manomet Center for Conservation Sciences (Manomet) personnel.

Regulations under the Magnuson-Stevens Fishery Conservation and Management Act require publication of this notification to provide interested parties the opportunity to comment on applications for proposed EFPs.

DATES: Comments must be received on or before May 12, 2005.

ADDRESSES: Comments on this notice may be submitted by e-mail. The mailbox address for providing e-mail comments is DA5-86@noaa.gov. Include in the subject line of the e-mail comment the following document identifier: “Comments on Manomet EFP Proposal for Inclined Separator Panel Study (DA5-86).” Written comments should be sent to Patricia A. Kurkul, Regional Administrator, NMFS, Northeast Regional Office, 1 Blackburn Drive, Gloucester, MA 01930. Mark the outside of the envelope “Comments on Manomet EFP Proposal for inclined Separator Panel Study (DA5-86).” Comments may also be sent via fax to 978-281-9135.

FOR FURTHER INFORMATION CONTACT: Peter Cooper, Fishery Management Specialist, phone: 978-281-9122, fax: 978-281-9135.

SUPPLEMENTARY INFORMATION: An application for an EFP was submitted by Manomet on March 16, 2005. The EFP would exempt four federally permitted commercial fishing vessels from the following requirements in the FMP: NE multispecies Gulf of Maine (GOM) rolling closure area restrictions specified at 50 CFR 648.81(f)(1)(iii) and (f)(1)(iv) to provide an optimum mixture of cod and flatfish for testing the experimental gear; and the NE multispecies minimum mesh size requirements specified at § 648.80(a)(3)(ii) in order to allow the use of 4-inch (10.2-cm) mesh within the separator panel.

The goal of this study is to assess the applicability of this separator panel to separate cod and other roundfish from flatfish in the GOM NE multispecies fishery. Researchers would test a trawl net consisting of 6.5-inch (16.5-cm) diamond mesh throughout the net and codend, with a 4-inch (10.2-cm) diamond mesh inclined separation panel sewn into the end of the extension and the codend. The angle of the inclined panel and number of meshes in the panel would be initially set at values implemented in the Irish Sea fisheries that have been proven effective at separating cod and other roundfish from flatfish.

The study would be conducted from May 1, 2005, through July 15, 2005. Inclined separation panel testing would take place aboard four different fishing vessels totaling 92, 1-hour trawls conducted over 23 days at sea. Fishing activities would take place within 30-minute squares 123, 124, 138, 139, 140, 146, and 147, outside of year-round closure areas. All legal catch would be landed and sold, consistent with the current daily and trip possession and landing limits. Undersized fish would not be retained at any time. The participating vessels would be required to report all landings in their Vessel Trip Reports.

The main species expected to be caught under this EFP are: 770 lb (350 kg) of Atlantic cod; 618 lb (281 kg) of monkfish; 270 lb (123 kg) of American plaice; 44 lb (20 kg) of haddock; 44 lb (20 kg) of winter flounder; 44 lb (20 kg) of witch flounder; 44 lb (20 kg) of yellowtail flounder; 44 lb (20 kg) of summer flounder; 2,640 lb (1,198 kg) of skate; 440 lb (200 kg) of crab; 440 lb (200 kg) of lobster; and 110 lb (50 kg) of sculpin. The applicant could request minor modifications and extensions to the EFP throughout the year. EFP modifications and extensions could be granted without further notice if they are deemed essential to facilitate completion of the proposed research and would result in only a minimal change in the scope or impact of the initially approved EFP request. The EFP could be made effective following publication of the EFP application in the Federal Register, with a 15-day public comment period.

Authority: 16 U.S.C. 1801 et seq.

Dated: April 22, 2005.
Alan D. Risenhoover
Acting Director, Office of Sustainable Fisheries, National Marine Fisheries Service.

[FR Doc. E5-1989 Filed 4-26-05; 8:45 am]

BILLING CODE 3510-22-S